DEPARTMENT OF DEFENSE

Department of the Army

Notice of Intent To Grant Exclusive Patent License to H2 Power, LLC; Chicago, IL

AGENCY: Department of the Army, DoD.

ACTION: Notice of intent.

SUMMARY: The Department of the Army hereby gives notice of its intent to grant to H2 Power, LLC; a corporation having its principle place of business at 333 North Michigan Avenue, Suite 1117, Chicago, IL 60601, an exclusive license.

DATES: Written objections must be filed not later than 15 days following publication of this announcement.

ADDRESSES: Send written objections to U.S. Army Research Laboratory, Technology Transfer and Outreach Office, RDRL-DPT/Annmarie Martin, Building 321, Room 126, 6375 Johnson Rd., Aberdeen Proving Ground, MD 21005-5425.

FOR FURTHER INFORMATION CONTACT: Annmarie Martin, (410) 278-9106, email: ORTA@arl.army.mil.

SUPPLEMENTARY INFORMATION: The Department of the Army plans to grant an exclusive license to H2 Power, LLC related to “Aluminum based nanogalvanic compositions useful for generating hydrogen gas and low temperature processing thereof”, U.S. Patent Application No.: 16/042632, Filing Date July, 2018 in the fields of use related to;

—Automotive & Transportation power generation applications related to 2/3/4/6 wheeled vehicles, such as motorcycles, all sizes of cars, mini-vans, van, SUV, pick-up truck, panel truck, other light and medium trucks up to 26,000lbs, and any size bus, and

—Power generation applications via generators and micro-grid equipment that generate 15kW and above.

The prospective exclusive license may be granted unless within fifteen (15) days from the date of this published notice, the U.S. Army Research Laboratory receives written objections including evidence and argument that establish that the grant of the license would not be consistent with the requirements of 35 U.S.C. 209(e) and 37 CFR 404.7(a)(1)(i). Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

Brenda S. Bowen,
Army Federal Register Liaison Officer.

[FR Doc. 2018-26761 Filed 12-10-18; 8:45 am]

BILLING CODE 5001-03-P